DEPARTMENT OF ENERGY

Federal Energy Regulatory Commission

[Docket No. EG01-288-000, et al.]

Homer City OL1 LLC, et al.; Electric Rate and Corporate Regulation Filings

September 4, 2001.

Take notice that the following filings have been made with the Commission:

1. Homer City OL1 LLC

[Docket No. EG01-288-000]

Take notice that on August 28, 2001, Homer City OL1 LLC (Applicant) filed with the Federal Energy Regulatory Commission (Commission) an application for determination that it will be an Exempt Wholesale Generator upon the purchase and leaseback by Applicant of an undivided interest in the Homer City Electric Generating Station, an 1,884-MW coal-fired generating plant located in Indiana County, Pennsylvania.

Comment date: September 19, 2001, in accordance with Standard Paragraph E at the end of this notice. The Commission will limit its consideration of comments to those that address the adequacy or accuracy of the application.

2. Homer City OL2 LLC

[Docket No. EG01-289-000]

Take notice that on August 28, 2001, Homer City OL2 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 25, 2001, in accordance with Standard Paragraph E at the end of this notice. The Commission will limit its consideration of comments to those that address the adequacy or accuracy of the application.

3. Homer City OL3 LLC

[Docket No. EG01-290-000]

Take notice that on August 28, 2001, Homer City OL3 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 25, 2001, in accordance with Standard Paragraph E at the end of this notice. The Commission will limit its consideration of comments to those that address the adequacy or accuracy of the application.

4. Homer City OL4 LLC

[Docket No. EG01-291-000]

Take notice that on August 28, 2001, Homer City OL4 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 19, 2001, in accordance with Standard Paragraph E at the end of this notice.

5. Homer City OL5 LLC

[Docket No. EG01-292-000]

Take notice that on August 28, 2001, Homer City OL5 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 25, 2001, in accordance with Standard Paragraph E at the end of this notice. The Commission will limit its consideration of comments to those that address the adequacy or accuracy of the application.

6. Homer City OL6 LLC

[Docket No. EG01-293-000]

Take notice that on August 28, 2001, Homer City OL6 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 25, 2001, in accordance with Standard Paragraph E at the end of this notice. The Commission will limit its consideration of comments to those that address the adequacy or accuracy of the application.

7. Homer City OL7 LLC

[Docket No. EG01-294-000]

Take notice that on August 28, 2001, Homer City OL7 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 25, 2001, in accordance with Standard Paragraph E at the end of this notice. The Commission will limit its consideration of comments to those that address the adequacy or accuracy of the application.

8. Homer City OL8 LLC

[Docket No. EG01-295-000]

Take notice that on August 28, 2001, Homer City OL8 LLC (Applicant) filed with the Federal Energy Regulatory Commission an application for determination that it will be an Exempt Wholesale Generator upon the purchase and leaseback by Applicant of an undivided interest in the Homer City Electric Generating Station, an 1,884-MW coal-fired generating plant located in Indiana County, Pennsylvania.

Comment date: September 19, 2001, in accordance with Standard Paragraph E at the end of this notice. The Commission will limit its consideration of comments to those that address the adequacy or accuracy of the application.

9. Panda Shiloh Power, L.P.

[Docket No. EG01-296-000]

Take notice that on August 29, 2001, Panda Shiloh Power, L.P. (Panda), with its principal offices at 4100 Spring Valley Road, Suite 1001, Dallas, Texas 75244, filed with the Federal Energy Regulatory Commission (Commission), an application for determination of exempt wholesale generator status pursuant to Section 32 of the Public Utility Holding Company Act of 1935, as amended, and Part 365 of the Commission's regulations.

Panda is a Delaware limited partnership, which will construct, own and operate a nominal 1100 MW natural gas-fired generating facility within the region governed by the Mid-America Interconnected Network, Inc. (MAIN) and sell electricity at wholesale.

Comment date: September 25, 2001, in accordance with Standard Paragraph E at the end of this notice. The Commission will limit its consideration of comments to those that address the adequacy or accuracy of the application.

10. Front Range Power Company, LLC

[Docket No. EG01-297-000]

Take notice that on August 30, 2001, Front Range Power Company, LLC tendered for filing with the Federal Energy Regulatory Commission (Commission) an application for determination of exempt wholesale generator status pursuant to part 365 of the Commission's regulations.

Front Range Power Company, LLC is a Colorado limited liability company owned by Mesquite Colorado Holdco, L.L.C., a Delaware limited liability company and affiliate of El Paso Energy Corporation, and Colorado Springs Utilities, an enterprise of the City of Colorado Springs, Colorado, to develop, design , construct, own, operate and maintain a natural gas-fired combined-cycle electric generation plant with a maximum capacity of approximately 480 MW, located on a 28-acre parcel of land approximately 17 miles south of Colorado Springs, Colorado.

Comment date: September 25, 2001, in accordance with Standard Paragraph E at the end of this notice.

11. Energy Transfer—Hanover Ventures, LP

[Docket No. ER01-2221-001]

Take notice that on August 30, 2001, Energy Transfer—Hanover Ventures, LP (ETHAN) tendered for filing with the Federal Energy Regulatory Commission (Commission), a supplement to its application for market-based rates as power marketer. The supplemental information pertains to ETHAN's ownership, business activities, and market power. Further the supplement makes certain changes to the Rate Schedule FERC No. 1 to cause them to conform with Section 35.9 of the Commission's regulations.

Comment date: September 20, 2001, in accordance with Standard Paragraph E at the end of this notice.

12. PJM Interconnection, L.L.C.

[Docket No. ER01-2948-000]

Take notice that on August 28, 2001, PJM Interconnection, L.L.C. (PJM), tendered for filing an executed service agreement for firm point-to-point transmission service for Exelon Generating Company, L.L.C. (Exelon) and two executed umbrella service agreement for point-to-point transmission service (firm and non-firm) with SCANA Energy Marketing, Inc. (SCANA).

Copies of this filing were served upon Exelon, SCANA and the state commissions within the PJM control area.

Comment date: September 18, 2001, in accordance with Standard Paragraph E at the end of this notice.

13. Allegheny Energy Supply Company, LLC

[Docket No. ER01-2949-000]

Take notice that on August 28, 2001, Allegheny Energy Service Corporation on behalf of Allegheny Energy Supply Company, LLC (Allegheny Energy Supply) filed Service Agreement No. 147 to add one (1) new Customer to the Market Rate Tariff under which Allegheny Energy Supply offers generation services.

Allegheny Energy Supply requests a waiver of notice requirements for an effective date of September 1, 2001 for Portland General Electric.

Copies of the filing have been provided to all parties of record.

Comment date: September 18, 2001, in accordance with Standard Paragraph E at the end of this notice.

14. American Electric Power Service Corporation

[Docket No. ER01-2950-000]

Take notice that on August 28, 2001, American Electric Power Service Corporation (AEP) tendered for filing with the Federal Energy Regulatory Commission (Commission), a Letter agreement between Entergy Power Ventures, LP and Northeast Texas Electric Cooperative, Inc. and Southwestern Electric Power Company (the Company).

AEP requests an effective date of October 27, 2001.

Copies of the filing have been served upon Entergy Power Ventures, LP, Northeast Texas Electric Cooperative, Inc. and the Public Utility Commission of Texas.

Comment date: September 18, 2001, in accordance with Standard Paragraph E at the end of this notice.

15. Allegheny Energy Supply Company, LLC

[Docket No. ER01-2951-000]

Take notice that on August 28, 2001, Allegheny Energy Service Corporation on behalf of Allegheny Energy Supply Company, LLC (Allegheny Energy Supply) filed Service Agreement No. 146 to add one (1) new Customer to the Market Rate Tariff under which Allegheny Energy Supply offers generation services.

Allegheny Energy Supply requests a waiver of notice requirements for an effective date of July 30, 2001 for Associated Electric Cooperative, Inc.

Copies of the filing have been provided to all parties of record.

Comment date: September 18, 2001, in accordance with Standard Paragraph E at the end of this notice.

16. American Transmission Company LLC

[Docket No. ER01-2952-000]

Take notice that on August 29, 2001, American Transmission Company LLC (ATCLLC) tendered for filing a Network Integration Transmission Service Agreement and a Network Operating Agreement for Manitowoc Public Utilities.

ATCLLC requests an effective date of August 1, 2001.

Comment date: September 19, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-22604 Filed 9-7-01; 8:45 am]

BILLING CODE 6717-01-P